DEPARTMENT OF ENERGY

Federal Energy Regulatory Commission

[Docket No. ER95-892-051, et al.]

CL Power Sales Three, L.L.C., et al.; Electric Rate and Corporate Regulation Filings

February 10, 2000.

Take notice that the following filings have been made with the Commission:

1. CL Power Sales Three, L.L.C., CL Power Sales Four, L.L.C.; and CP Power Sales Five, L.L.C.

[Docket Nos. ER95-892-051; ER95-892-052; and ER00-856-001]

Take notice that on January 27, 2000, CL Power Sales Three, LLC, CL Power Sales Four, LLC, and CP Power Sales Five, LLC, filed a quarterly report for the quarter ending December 31, 1999, for information only.

2. Michael A. Levin

[Docket No. ID-3450-000]

Take notice that on February 1, 2000, Michael A. Levin filed an abbreviated application for authorization to hold interlocking positions as President, Vice President and Chief Operating Officer of Sunlaw Energy Corporation; President, Vice President and Chief Operating Officer of Sunlaw Operating Corporation; President, Vice President, and Chief Operating Officer of Sunlaw Environmental Technologies, Inc.; and Vice President and Manager of Goal Line Environmental Technologies, LLC.

Comment date: March 2, 2000, in accordance with Standard Paragraph E at the end of this notice.

3. Irwin Woodland

[Docket No. ID-3451-000]

Take notice that on February 1, 2000, Irwin Woodland filed an abbreviated application for authorization to continue to hold interlocking positions as Director of Sunlaw Energy Corporation; Director of Sunlaw Operating Corporation; Director of Sunlaw Environmental Technologies, Inc.; and Secretary of Goal Line Management LLC.

Comment date: March 2, 2000, in accordance with Standard Paragraph E at the end of this notice.

4. Michael B. Martin

[Docket No. ID-3452-000]

Take notice that on February 1, 2000, Michael B. Martin filed an abbreviated application for authorization to continue to hold interlocking positions as Chief Financial Officer and Secretary of Sunlaw Energy Corporation; Chief Financial Officer and Secretary of Sunlaw Operating Corporation; Chief Financial Officer and Secretary of Goal Line Environmental Technologies LLC.; Chief Financial Officer and Secretary of Sunlaw Environmental Technologies, Inc.; and Chief Financial Officer and Secretary of Goal Line Management LLC.

Comment date: March 2, 2000, in accordance with Standard Paragraph E at the end of this notice.

5. Wayne R. Gould

[Docket No. ID-3453-000]

Take notice that on February 1, 2000, Wayne R. Gould filed an abbreviated application for authorization to hold interlocking positions as Vice President of Sunlaw Energy Corporation and Manager of Goal Line Environmental Technologies LLC.

Comment date: March 2, 2000, in accordance with Standard Paragraph E at the end of this notice.

6. California Independent System Operator Corporation

[Docket No. ER00-555-002]

Take notice that on February 7, 2000, the California Independent System Operator Corporation (ISO), tendered for filing proposed changes in its FERC Electric Tariff, Volume No. I to comply with the Commission's order in California Independent System Operator Corp., 90 FERC 61,0006 (2000).

The ISO states that this filing has been served upon all parties in this proceeding.

Comment date: February 28, 2000, in accordance with Standard Paragraph E at the end of this notice.

7. Central Illinois Light Company

[Docket No. ER00-727-000]

Take notice that on February 7, 2000, Central Illinois Light Company (CILCO), 300 Liberty Street, Peoria, Illinois 61602, tendered for filing additional information concerning its Service Agreement under its Market Rate Power Sales Tariff with its affiliate, NewEnergy, Inc.

CILCO requested an effective date of December 6, 1999, and requested a waiver of the Commission's notice requirements.

Copies of the filing were served on the affected customer and the Illinois Commerce Commission.

Comment date: February 28, 2000, in accordance with Standard Paragraph E at the end of this notice.

8. Vermont Electric Power Company, Inc.

[Docket No. ER00-979-000]

Take notice that on February 4, 2000, Vermont Electric Power Company, Inc. (VELCO), tendered for filing pursuant to Section 205 of the Federal Power Act, a supplemental filing modifying the provisions of the transmission formula rate originally proposed in the above-captioned docket on December 30, 1999. The modifications clarify the manner in which the formula operates. VELCO requests that the formula, as revised, become effective on March 1, 2000, and that the Commission grant waiver of any and all applicable requirements to the extent necessary to establish such effective date.

Comment date: February 25, 2000, in accordance with Standard Paragraph E at the end of this notice.

9. Louisiana Generating LLC

[Docket Nos. ER00-1259-000 and EL00-38-000]

Take notice that on February 4, 2000, Louisiana Generating LLC (Seller), tendered for filing a supplement to its petition of January 27, 2000 in the above dockets. The supplemental filing replaces two attachments to the January 27, 2000 petition, which erroneously had attached to it a superceded version of two contracts for which Seller seeks market-based rate approval.

Comment date: February 25, 2000, in accordance with Standard Paragraph E at the end of this notice.

10. Central Vermont Public Service Corporation, Commonwealth Electric Company, Brownsville Power 1, L.L.C., New England Power Company, Caledonia Power 1, L.L.C., New Albany Power 1, L.L.C., CinCap VI, LLC, The Cincinnati Gas & Electric Company and PSI Energy, Inc., Reliant Energy Indian River, LLC, Reliant Energy Etiwanda, LLC, El Dorado Energy, LLC, Reliant Energy Mandalay, LLC, Reliant Energy Ormond Beach, LLC, Reliant Energy Ellwood, LLC, Reliant Energy Coolwater, LLC, SOWEGA Power LLC, Public Service Company of Colorado, Alliance for Cooperative Energy Services Power Marketing LLC, Mantua Creek Generating Company, L.P., Central Hudson Gas & Electric Corporation, and Northbrook New York, LLC.

[Docket Nos. ER00-1466-000; ER00-1467-000; ER00-1468-000; ER00-1469-000; ER00-1470-000; ER00-1471-000; ER00-1472-000; ER00-1473-000; ER00-1474-000; ER00-1475-000; ER00-1476-000; ER00-1477-000; ER00-1478-000; ER00-1479-000; ER00-1480-000; ER00-1481-000; ER00-1482-000; ER00-1494-000; ER00-1495-000; ER00-1496-000; and ER00-1524-000]

Take notice that on February 1, 2000, the above-mentioned affiliated power producers and/or public utilities filed their quarterly reports for the quarter ending December 31, 1999.

Comment date: March 1, 2000, in accordance with Standard Paragraph E at the end of this notice.

11. Carolina Power & Light Company

[Docket No. ER00-1491-000]

Take notice that on February 3, 2000, Carolina Power & Light Company (CP&L), tendered for filing an executed Service Agreement with Allegheny Energy Supply Company, LLC under the provisions of CP&L's Market-Based Rates Tariff, FERC Electric Tariff No. 4. CP&L is requesting an effective date of January 20, 2000 for this Agreement.

Copies of the filing were served upon the North Carolina Utilities Commission and the South Carolina Public Service Commission.

Comment date: February 24, 2000, in accordance with Standard Paragraph E at the end of this notice.

12. Allegheny Energy Service Corporation on behalf of Allegheny Energy Supply Company, LLC

[Docket No. ER00-1492-000]

Take notice that on February 3, 2000, Allegheny Energy Service Corporation on behalf of Allegheny Energy Supply Company, LLC (Allegheny Energy Supply), tendered for filing Supplement No. 22 to add one (1) new Customer to the Market Rate Tariff under which Allegheny Energy Supply offers generation services.

Allegheny Energy Supply requests a waiver of notice requirements to make service available as of January 5, 2000 to Duke Energy Trading and Marketing, L.L.C.

Copies of the filing have been provided to the Public Utilities Commission of Ohio, the Pennsylvania Public Utility Commission, the Maryland Public Service Commission, the Virginia State Corporation Commission, the West Virginia Public Service Commission, and all parties of record.

Comment date: February 24, 2000, in accordance with Standard Paragraph E at the end of this notice.

13. Allegheny Energy Service Corporation on behalf of Allegheny Energy Supply Company, LLC

[Docket No. ER00-1493-000]

Take notice that on February 3, 2000, Allegheny Energy Service Corporation on behalf of Allegheny Energy Supply Company, LLC (Allegheny Energy Supply), tendered for filing Supplement No. 23 to add two (2) new Customers to the Market Rate Tariff under which Allegheny Energy Supply offers generation services. Allegheny Energy Supply requests a waiver of notice requirements to make service available as of January 7, 2000 to Aquila Energy Marketing Corporation and New York State Electric & Gas Corporation.

Copies of the filing have been provided to the Public Utilities Commission of Ohio, the Pennsylvania Public Utility Commission, the Maryland Public Service Commission, the Virginia State Corporation Commission, the West Virginia Public Service Commission, and all parties of record.

Comment date: February 24, 2000, in accordance with Standard Paragraph E at the end of this notice.

14. Ameren Services Company

[Docket No. ER00-1498-000]

Take notice that on February 3, 2000, Ameren Services Company (ASC), the transmission provider, tendered for filing Service Agreements for Long-Term Firm Pointto-Point Transmission Services between ASC and ComEd Wholesale Marketing (3 Agreements) and NSP Energy Marketing (the Parties). ASC asserts that the purpose of the Agreements is to permit ASC to provide transmission service to the parties pursuant to Ameren's Open Access Transmission Tariff filed in Docket No. ER 96-677-004.

Comment date: February 24, 2000, in accordance with Standard Paragraph E at the end of this notice.

15. Entergy Services, Inc.

[Docket No. ER00-1499-000]

Take notice that on February 3, 2000, Entergy Services, Inc. (Entergy Services), on behalf of Entergy Arkansas, Inc., tendered for filing the Twenty-Ninth Amendment (Amendment) to the Power Coordination, Interchange and Transmission Service Agreement (PCITA) between Entergy Arkansas, Inc. and Arkansas Electric Cooperative Corporation (AECC). Entergy Services states that, among other things, the Amendment modifies the capacity available at existing points of delivery between Entergy Arkansas, Inc., and AECC.

Comment date: February 24, 2000, in accordance with Standard Paragraph E at the end of this notice.

16. UtiliCorp United Inc.

[Docket No. ER00-1500-000]

Take notice that on February 3, 2000, UtiliCorp United Inc. (UtiliCorp), tendered for filing service agreements with British Columbia Power Exchange Corporation for service under its Short-Term Firm Point-to-Point open access service tariff for its operating divisions, Missouri Public Service, WestPlains Energy-Kansas and WestPlains Energy-Colorado.

Comment date: February 24, 2000, in accordance with Standard Paragraph E at the end of this notice.

17. UtiliCorp United Inc.

[Docket No. ER00-1501-000]

Take notice that on February 3, 2000, UtiliCorp United Inc. (UtiliCorp), tendered for filing service agreements with British Columbia Power Exchange Corporation for service under its Non-Firm Point-to-Point open access service tariff for its operating divisions, Missouri Public Service, WestPlains Energy-Kansas and WestPlains Energy-Colorado.

Comment date: February 24, 2000, in accordance with Standard Paragraph E at the end of this notice.

18. Bonnie Mine Energy, LLC

[Docket No. ER00-1502-000]

Take notice that on February 3, 2000, Bonnie Mine Energy, LLC, a limited liability company organized under the laws of Delaware, petitioned the Commission for acceptance of its market-based rate schedule, waiver of certain requirements under Subparts B and C of Part 35 of the Commission's regulations, and preapproval of transactions under Part 34 of the regulations. Bonnie Mine Energy, LLC is developing an approximately 800 MW gas-fired generating facility in Polk County, Florida.

Comment date: February 24, 2000, in accordance with Standard Paragraph E at the end of this notice.

19. Central Illinois Public Service Corporation

[Docket No. ER00-1505-000]

Take notice that on February 2, 2000, Central Illinois Public Service Corporation (AmerenCIPS), tendered for filing an Agreement Among the City of Farmington, MO, Central Illinois Public Service Corporation, and Union Electric Company (the Agreement). AmerenCIPS states that under the Agreement, responsibility for providing wholesale electric service to the City of Farmington, MO (Farmington) is being transferred to it from Union Electric Company (AmerenUE), an affiliated electric utility. AmerenCIPS further states that the rates, terms and conditions under which service is being supplied to Farmington will not be affected by the transfer, but that the term of an existing Wholesale Electric Service Agreement with Farmington is being extended to December 31, 2001.

AmerenCIPS is proposing to make the Agreement effective as of February 1, 2000.

Comment date: February 23, 2000, in accordance with Standard Paragraph E at the end of this notice.

20. Fibertek Energy, LLC

[Docket No. ER00-1529-000]

Take notice that on February 2, 2000, Fibertek Energy, LLC filed a letter with the Federal Energy Regulatory Commission (FERC or Commission) saying that they would no longer be selling electricity at wholesale pursuant to its FERC Electric Tariff No. 1, approved by the Commission on July 1, 1999 (88 FERC ¶ 61,005). Fibertek Energy, LLC is therefor withdrawing said rate schedule.

Comment date: February 23, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-3826 Filed 2-16-00; 8:45 am]

BILLING CODE 6717-01-P